DEPARTMENT OF ENERGY

Federal Energy Regulatory Commission

[Docket No. CP01-80-000]

East Tennessee Natural Gas Company; Notice of Intent to Prepare an Environmental Assessment for the Proposed Murray Project and Request for Comments on Environmental Issues

March 14, 2001.

The staff of the Federal Energy Regulatory Commission (FERC or Commission) will prepare an environmental assessment (EA) that will discuss the environmental impacts of the Murray Project involving construction and operation of facilities by East Tennessee Natural Gas Company (ETNG) in Bedford, Franklin, Grundy, Hamilton, Marion, Marshall, McMinn, Moore, and Sequatchie Counties, Tennessee, and Catoosa, Murray, and Whitfield Counties, Georgia.¹ These facilities would consist of construction of about 53.3 miles of 20-inch-diameter pipeline, uprate of about 46.5 miles of 12- and 20-inch-diameter pipeline, and installation of 14,130 horsepower (hp) of compression, two meter stations, and appurtenant facilities. This EA will be used by the Commission in its decision-making process to determine whether the project is in the public convenience and necessity.

¹ ETNG's application was filed with the Commission under section 7 of the Natural Gas Act and part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My land? What Do I Need To Know?” was attached to the project notice ETNG provided to landowners. This fact sheet addresses a number of typically asked questions, including the use of eminent domain and how to participate in the Commission's proceedings. It is available for viewing on the FERC Internet website (www.ferc.fed.us).

Summary of the Proposed Project

ETNG wants to provide the cities of Dalton and Cartersville, Georgia with 2,000 dekatherms per day (Dth/d) and 3,000 Dth/d of firm transportation service, respectively. In addition, ETNG wants to provide up to 165,000 Dth/d of firm transportation service to Duke Energy Murray, LLC's (DENA Murray) 1,240-megawatt gas-fired power plant (Murray Energy Facility) under construction in Murray County, Georgia. ETNG seeks authority to:

• Construct 26.88 miles of 20-inch-diameter pipeline in Hamilton County, Tennessee, and Cattosa, Whitfield, and Murray Counties, Georgia (Murray Lateral); extending from an interconnect with ETNG's existing Atlanta Extension (LIne 3500-1) pipeline lateral and ending at DENA Murray's Murray Energy Facility in Murray County, Georgia;

• Construct a 11.16-mile-long, 20-inch-diameter pipeline loop in Bedford Moore Counties, Tennessee;

• Construct a 4.74-mile-long 10-inch diameter pipeline loop in Franklin County, Tennessee;

• Construct a 7.59-mile-long, 20-inch-diameter pipeline loop in Marion County, Tennessee;

• Construct a 3.0-mile-long, 20-inch-diameter pipeline loop in Hamilton County, Tennessee;

• Construct two meter stations at Milepost (MP) 20.89 of the Murray Lateral to deliver gas to the Cities of Dalton and Cartersville, Georgia, and the terminus of the Murray Lateral at MP 26.88;

• Add a new 6,270-horsepower (hp) compressor unit to the existing Ooltewah Compressor Station 3214 in Hamilton County, Tennessee;

• Install a new 6,270-hp compressor unit at the existing Tracy City Compressor Station 3210 in Marion County, Tennessee, and remove the existing 1,590-hp compressor unit;

• Construct the new 1,590-hp Compressor Station 3216 in McMinn County, Tennessee, by installing the 1,590-hp compressor unit removed from the Tracy City Compressor Station 3210;

• Uprate four segments of 12-inch-diameter pipeline and two segments of 20-inch-diameter pipeline totaling 46.45 miles in Marshall, Bedford, Moore, Franklin, Grundy, Marion, Sequatchie, and McMinn Counties, Tennessee;

• Construct five temporary pressure limiting devices for the above-described uprates in Franklin, Grundy, Sequatchie and Marion Counties, Tennessee;

• Install, seven new regulators in Marion, Hamilton, Bedford, Moore, and Franklin Counties, Tennessee;

• Under take piping modifications at Compressor Station 3209 in Franklin County, Tennessee;

• Construct two new main line valves in Whitfield County, Georgia; and

• Install new and modified tie-in facilities in Hamilton County, Tennessee.

The general location of the project facilities is shown in appendix 1.²

² The appendices referenced in this notice are not being printed in the Federal Register. Copies are available on the Commission's website at the “RIMS” link or from the Commission's Public Reference and Files Maintenance Branch, 888 First Street, NE., Washington, DC 20426, or call (202) 208-1371. For instructions on connecting to RIMS refer to the last page of this notice. Copies of the appendices were sent to all those receiving this notice in the mail.

Land Requirements for Construction

Construction of the proposed facilities would require about 676.1 acres of land. Following construction, about 132.9 acres would be maintained as new right-of-way. The remaining 543.2 acres of land would be restored and allowed to revert to its former use.

The EA Process

The National Environmental Policy Act (NEPA) requires the Commission to take into account the environmental impacts that could result from an action whenever it considers the issuance of a Certificate of Public Convenience and Necessity. NEPA also requires us ³ to discover and address concerns the public may have about proposals. We call this “scoping”. The main goal of the scoping process is to focus the analysis in the EA on the important environmental issues. By this Notice of Intent, the Commission request public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• Geology and soils

• Water resources, fisheries, and wetlands

• Vegetation and wildlife

• Endangered and threatened species

• Public safety

• Land use

• Cultural resources

• Air quality and noise

• Hazardous waste

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 5.

Currently Identified Environmental Issues

We have already identified several issues that we think deserve attention based on a preliminary review of the proposed facilities and the environmental information provided by ETNG. This preliminary list of issues may be changed based on your comments and our analysis.

• One waterboy in Tennessee and three waterbodies in Georgia are considered sensitive waterbodies due to their high ecological or recreational value.

• 29 federally listed endangered or threatened species have been identified as occurring in the vicinity of the proposed project area.

• About 8.42 acres of agricultural land, including about 2.86 acres of prime farmland soils, would convert to industrial use.

• Prentice Cooper State Forest and Wildlife Management Area in Marion County, Tennessee may be affected by the proposed project.

• Land administered by the Tennessee Valley Authority would be crossed by the proposed project.

Also, we have made a preliminary decision to not address the impacts of the nonjurisdictional facilities. We will briefly describe their location and status in the EA.

Public Participation

You can make a difference by providing us with your specific comments or concerns about the project. By becoming a commentor, your concerns will be addressed in the EA and considered by the Commission. You should focus on the potential environmental effects of the proposal, alternatives to the proposal (including alternative locations or routes), and measures to avoid or lessen environmental impact. The more specific your comments, the more useful they will be. Please carefully follow these instructions to ensure that your comments are received in time and properly recorded:

• Send an original and two copies of your letter to: David P. Boergers, Secretary, Federal Energy Regulatory Commission, 888 First St., NE, Room 1A, Washington, DC 20426.

• Label one copy of the comments for the attention of Gas/Hydro.

• Reference Docket No. CP01-80-000.

• Mail your comments so that they will be received in Washington, DC on or before April 9, 2001.

Comments and interventions (see “Becoming an Intervenor,” below) may also be filed electronically via the Internet in lieu of paper. See 18 CFR 385.2001(a)(1)(iii) and the instructions on the Commission's web site at http://www.ferc.fed.us/efi/doorbell.htm under the link to the User's Guide. Before you can file comments you will need to create an account which can be created by clicking on “Login to File” and then “New User Account.”

If you do not want to send comments at this time but still want to remain on our mailing list, please return the Information Request (appendix 3). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Interventions may also be filed electronically as described above. Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-6794 Filed 3-19-01; 8:45 am]

BILLING CODE 6717-01-M